DEPARTMENT OF HEALTH AND HUMAN SERVICES

Administration for Children and Families

Proposed Information Collection Activity; Comment Request

Title: Continued Tracking of Families in the Head Start Impact Study.

OMB No.: 0970-0229.

Description: The Administration for Children and Families (ACF) of the Department of Health and Human Services (HHS), is requesting comments on plans to collect information from children and families in the Head Start Impact Study. In anticipation of the possibility of conducting a follow-up for this study in early adulthood, this effort will collect information necessary to identify respondents' current location, as well as other basic information about the parents' whereabouts and future contacts, should the follow-up study be continued. A limited set of items will also be collected to gather information from parents about their children's well-being, including whether they have been retained in grade, are receiving special education services, how well they are faring in school, and how they behave. This information will be collected annually, with the goal of ensuring continued high response rates in future follow-up data collections.

The Head Start Impact Study was a longitudinal study that involved approximately 5,000 first time enrolled three- and four-year old preschool children across 84 nationally representative grantee/delegate agencies (in communities where there were more eligible children and families than can be served by the program.) The participating children were randomly assigned to either a Head Start group (that could enroll in Head Start services) or a control group (that could not enroll in Head Start services but could enroll in other available services selected by their parents). Data collection for the study began in fall of 2002 and extended through spring 2008, through the children's 3rd grade year. Tracking of these children and families has continued through spring 2011.

It is the intention of the Administration for Children and Families to continue to examine outcomes for this sample of children and families when the children reach early adulthood. In order to ensure that participants can be located for that future study, location and contact information will be collected from parents or guardians in the spring of 2012, 2013, 2014, 2015, and 2016. The tracking updates will primarily be conducted over the telephone with in-person follow-up as necessary. Tracking updates will take about 20 minutes to complete.

Respondents:

Annual Burden Estimates
Instrument | Annual number of respondents | Number of responses per respondent | Average burden hours per response | Total annual burden hours
Tracking Interview | 4,667 | 1 | 2/3 | 1,556

Estimated Total Annual Burden Hours: 1,556.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade, SW., Washington, DC 20447, Attn: OPRE Reports Clearance Officer. E-mail address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: May 2, 2011.
Seth F. Chamberlain
Reports Clearance Officer.

[FR Doc. 2011-11100 Filed 5-5-11; 8:45 am]

BILLING CODE 4184-22-P